DEPARTMENT OF AGRICULTURE

Agricultural Marketing Service

[Document Number AMS: AMS-FV-08-0076]

United States Standards for Grades of Frozen Onions

AGENCY: Agricultural Marketing Service, USDA.

ACTION: Notice and request for comments.

SUMMARY: The Agricultural Marketing Service (AMS) of the Department of Agriculture (USDA) is soliciting comments on its proposal to create new United States Standards for Grades of Frozen Onions. USDA has received additional industry comments from several discussion drafts. The grade standards would provide a common language for trade, a means of measuring value in the marketing of frozen onions, and provide guidance in the effective utilization of frozen onions.

DATES: Comments must be submitted on or before August 1, 2011.

ADDRESSES: Written comments may be submitted to: Myron Betts, Processed Products Branch, Fruit and Vegetable Programs, Agricultural Marketing Service, U.S. Department of Agriculture, 1400 Independence Avenue, SW., Washington, DC 20250; or by fax (202) 690-1527; or via Internet at http://www.regulations.gov. Comments should reference the date and page of this issue of the Federal Register.

Please be advised that the identity of the individual or entities submitting the comments will be made public on the Internet via http://www.regulations.gov or http://www.ams.usda.gov/processedinspection. Any comments received, regarding these proposed standards also will be posted on these sites.

FOR FURTHER INFORMATION CONTACT: Contact Myron Betts, Processed Products Branch, Fruit and Vegetable Programs, Agricultural Marketing Service, U.S. Department of Agriculture, 1400 Independence Avenue, SW., Room 0709, So. Building; STOP 0247, Washington, DC 20250. Phone (202) 720-5021; Fax: (202) 690-1527. Copies of the proposed U.S. Standards for Grades of Frozen Onions are available on the Internet at http://www.ams.usda.gov/processedinspection or http://www.regulations.gov.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices.”

AMS is committed to carrying out this authority in a manner that facilitates the marketing of agricultural commodities and makes copies of official standards available upon request. Those United States standards for grades of processed fruits and vegetables no longer appear in the Code of Federal Regulations but are maintained by USDA/AMS/Fruit and Vegetable Programs at http://www.ams.usda.gov/processedinspection.

AMS is proposing to establish the U.S. Standards for Grades of Frozen Onions using the procedures that appear in part 36, Title 7 of the Code of Federal Regulations (7 CFR part 36).

Background

AMS received a petition from American Frozen Food Institute (AFFI), requesting the development of new standards for frozen onions. The petitioners represent almost all of the processors of frozen onions in the United States. The petition provided information on style, sample size, and product description to develop the standards.

AMS developed the grade standards for frozen onions to incorporate comments from AFFI members, published notices on the proposed grade standards in order to receive comments from interested parties (see 66 FR 21116, 68 FR 11801, 68 FR 27010) as appropriate and circulated several discussion drafts between April 2007 and June 2010. AMS received and evaluated samples of various styles of frozen onions to collect information on how to ascertain the grade of frozen onions. Comments from the trade association's members were used to further develop the proposed standards. The comments referenced the style of whole onions and questioned the specific size ranges for whole peeled onions and the total allowance for peel in whole onions. Also the comments suggested that stem material, sprout material, and root material be included as major defects in the “core material” defect category.

In addition, AMS met with members of AFFI at their annual meeting in February 2007 to discuss the comments. AFFI suggested that dark green units with dark green stripes across 50 percent or more of the onion units would be considered a defect and under the style of whole onion units greater than ⅜ inch (10mm) or less than ¾ inch (20mm) be addressed. AFFI requested a change in the style designations for minced style, and a correction to the text. The members agreed with the proposed section concerning requirements for Styles, Type I, Whole onions and Type II, Pearl onions. The members did not agree with the proposed descriptions in requirements for whole onions and pearl onions for Styles: Type I, whole onions of ¾ inch to 1-7/8 inches in diameter and Type II, pearl onions of ¼ inch to ⅞ inch in diameter. Also, the members did not agree with the proposed section concerning Acceptable Quality Levels (AQLs) for quality defects and submitted examples of specifications from buyers. The members expressed concern because defects were defined by weight, not by count. Larger units would be allowed a smaller number of defects and smaller units would be allowed a large number of defects. The members stated that the definitions of “good appearance” and “reasonably good appearance” were too similar.

AFFI recommended that the product description include a heat treatment and suggested that AMS consider a requirement that onions be blanched.

AFFI members requested that the product description be limited to individually quick frozen onions. There were also concerns that microbiological requirements, storage temperatures, shelf life requirements, and limits for chemical and pesticide residues were not addressed in the proposed frozen onion grade standards.

AMS incorporated these comments to make further changes to the proposed grade standards in the discussion draft. However, in June 2010 AMS received additional feedback from AFFI members. These AFFI members indicated that this and other frozen vegetable grade standards did not include requirements for shelf-life, storage temperature, microbiological, or chemical pesticide residue.

Nonetheless, commodities covered by U.S. grade standards must comply with all of the regulatory food safety requirements of the Food and Drug Administration, the Environmental Protection Agency, and applicable state and local regulations.

The proposed standards for frozen onions would continue to use the standard format for U.S. standards for grades using “individual attributes.” Specifically, the standards would provide for the “individual attribute” procedure for product grading with sample sizes, tolerances, and acceptance numbers of allowable defects with single letter grade designation. Also, the standards would define the term “frozen onions” and establish “strips,” “diced,” “whole,” “chopped,” and “other” as the style designations. The proposal also would define quality factors, AQLs, and tolerances for defects that affect frozen onions and determine sample unit sizes for this commodity. These grade standards would establish the grade levels “A,” “B,” and “Substandard.” The AQLs, tolerances, and acceptance numbers for each quality factor as defined for each grade level would also be established.

The grade of a sample unit of frozen onions would be ascertained considering the factors of varietal characteristics, flavor and odor, appearance, color, defects, absence of grit or dirt, and character.

These grade standards would provide a common language for trade, a means of measuring value in the marketing of frozen onions, and provide guidance in the effective utilization of frozen onions.

The official grade of a lot of frozen onions covered by these standards would be determined by the procedures set forth in the Regulations Governing Inspection and Certification of Processed Products Thereof, and Certain Other Processed Foods Products (§ 52.1 to 52.83).

AMS is publishing this notice with a sixty-day comment period that will provide a sufficient amount of time for interested persons to comments on the proposed new standards for frozen onions.

Authority: 7 U.S.C. 1621-1627.

Dated: May 24, 2011.
Rayne Pegg,
Administrator, Agricultural Marketing Service.

[FR Doc. 2011-13501 Filed 5-31-11; 8:45 am]

BILLING CODE 3410-02-P